DEPARTMENT OF ENERGY

Federal Energy Regulatory Commission

Combined Notice of Filings #1

Take notice that the Commission received the following exempt wholesale generator filings:

Docket Numbers: EG25-44-000.

Applicants: Northwest Ohio Wind, LLC.

Description: Northwest Ohio Wind, LLC submits Notice of Self-Certification of Exempt Wholesale Generator Status.

Filed Date: 11/22/24.

Accession Number: 20241122-5240.

Comment Date: 5 p.m. ET 12/13/24.

Docket Numbers: EG25-45-000.

Applicants: Bocanova Power LLC.

Description: Bocanova Power LLC submits Notice of Self-Certification of Exempt Wholesale Generator Status.

Filed Date: 11/25/24.

Accession Number: 20241125-5169.

Comment Date: 5 p.m. ET 12/16/24.

Take notice that the Commission received the following Complaints and Compliance filings in EL Dockets:

Docket Numbers: EL25-20-000.

Applicants: Constellation Energy Generation, LLC v. PJM Interconnection, L.L.C.

Description: Complaint of Constellation Energy Generation, LLC v. PJM Interconnection, L.L.C.

Filed Date: 11/22/24.

Accession Number: 20241122-5285.

Comment Date: 5 p.m. ET 12/12/24.

Take notice that the Commission received the following electric rate filings:

Docket Numbers: ER23-93-003.

Applicants: Consumers Energy Company.

Description: Compliance filing: Amended WDS SA with Michigan Public Power Agency, Docket No. ER23-93-to be effective 12/14/2022.

Filed Date: 11/25/24.

Accession Number: 20241125-5086.

Comment Date: 5 p.m. ET 12/16/24.

Docket Numbers: ER25-474-000.

Applicants: Blossburg Power, LLC, Brunot Island Power, LLC, Gilbert Power, LLC, Hamilton Power, LLC, Hunterstown Power, LLC, Mountain Power, LLC, New Castle Power, LLC, Orrtanna Power, LLC, Portland Power, LLC, Sayreville Power, LLC, Shawnee Power, LLC, Shawville Power, LLC, Titus Power, LLC, Tolna Power, LLC, Warren Generation, LLC.

Description: Joint Request for Limited Waiver of Blossburg Power, LLC, et al.

Filed Date: 11/15/24.

Accession Number: 20241115-5295.

Comment Date: 5 p.m. ET 12/6/24.

Docket Numbers: ER25-541-000.

Applicants: Big Rock ESS Assets LLC.

Description: 205(d) Rate Filing: Big Rock ESS Asset, Certificate of Concurrence Filing to be effective 11/22/2024.

Filed Date: 11/22/24.

Accession Number: 20241122-5242.

Comment Date: 5 p.m. ET 12/13/24.

Docket Numbers: ER25-542-000.

Applicants: California Independent System Operator Corporation.

Description: 205(d) Rate Filing: 2024-11-22 Regulatory Filings Provision—Pathways Step 1 Proposal to be effective 12/31/9998.

Filed Date: 11/22/24.

Accession Number: 20241122-5247.

Comment Date: 5 p.m. ET 12/13/24.

Docket Numbers: ER25-543-000.

Applicants: California Independent System Operator Corporation.

Description: 205(d) Rate Filing: 2024-11-22 SWIP-North Development Agreement btwn Great Basin & CAISO to be effective 11/23/2024.

Filed Date: 11/22/24.

Accession Number: 20241122-5258.

Comment Date: 5 p.m. ET 12/13/24.

Docket Numbers: ER25-548-000.

Applicants: PJM Interconnection, L.L.C.

Description: 205(d) Rate Filing: Amendment to WMPA SA No. 5874; AF1-006 to be effective 1/25/2025.

Filed Date: 11/25/24.

Accession Number: 20241125-5035.

Comment Date: 5 p.m. ET 12/16/24.

Docket Numbers: ER25-549-000.

Applicants: PJM Interconnection, L.L.C.

Description: 205(d) Rate Filing: Amendment to ISA, Service Agreement No. 6657; Queue No. AF1-050 to be effective 1/25/2025.

Filed Date: 11/25/24.

Accession Number: 20241125-5043.

Comment Date: 5 p.m. ET 12/16/24.

Docket Numbers: ER25-550-000.

Applicants: Southern California Edison Company.

Description: Informational Filing of 2025 Formula Rate Annual Update of Southern California Edison Company.

Filed Date: 11/22/24.

Accession Number: 20241122-5289.

Comment Date: 5 p.m. ET 12/13/24.

Docket Numbers: ER25-551-000.

Applicants: PJM Interconnection, L.L.C.

Description: 205(d) Rate Filing: Original GIA & CSA, SA Nos. 7411 & 7412; Project Identifier No. AF2-029 to be effective 10/24/2024.

Filed Date: 11/25/24.

Accession Number: 20241125-5118.

Comment Date: 5 p.m. ET 12/16/24.

Docket Numbers: ER25-552-000.

Applicants: PJM Interconnection, L.L.C.

Description: 205(d) Rate Filing: Amended ISA; Service Agreement No. 6664; AF1-083 to be effective 1/25/2025.

Filed Date: 11/25/24.

Accession Number: 20241125-5093.

Comment Date: 5 p.m. ET 12/16/24.

Docket Numbers: ER25-553-000.

Applicants: Midcontinent Independent System Operator, Inc.

Description: 205(d) Rate Filing: 2024-11-25_SA 4398 ATC-MPFCA Elm Road to be effective 1/25/2025.

Filed Date: 11/25/24.

Accession Number: 20241125-5115.

Comment Date: 5 p.m. ET 12/16/24.

Docket Numbers: ER25-554-000.

Applicants: Wild Plains Wind Project, LLC.

Description: 205(d) Rate Filing: Application for MBR Authorization—Expedited Treatment to be effective 12/6/2024.

Filed Date: 11/25/24.

Accession Number: 20241125-5123.

Comment Date: 5 p.m. ET 12/16/24.

Docket Numbers: ER25-555-000.

Applicants: NextEra Energy Transmission MidAtlantic, Inc.

Description: Tariff Amendment: Notice of Cancellation of Transmission Owner Tariff to be effective 11/26/2024.

Filed Date: 11/25/24.

Accession Number: 20241125-5129.

Comment Date: 5 p.m. ET 12/16/24.

Docket Numbers: ER25-556-000.

Applicants: GridLiance West LLC.

Description: 205(d) Rate Filing: GLW Annual TRBAA Filing 2025 to be effective 1/1/2025.

Filed Date: 11/25/24.

Accession Number: 20241125-5191.

Comment Date: 5 p.m. ET 12/16/24.

Docket Numbers: ER25-557-000.

Applicants: Trans Bay Cable LLC.

Description: 205(d) Rate Filing: Annual TRBAA Filing—2025 to be effective 1/1/2025.

Filed Date: 11/25/24.

Accession Number: 20241125-5196.

Comment Date: 5 p.m. ET 12/16/24.

Docket Numbers: ER25-558-000.

Applicants: PJM Interconnection, L.L.C.

Description: 205(d) Rate Filing: Original GIA, SA No. 7410; Project Identifier AG1-189 to be effective 10/24/2024.

Filed Date: 11/25/24.

Accession Number: 20241125-5198.

Comment Date: 5 p.m. ET 12/16/24.

Docket Numbers: ER25-559-000.

Applicants: Northwest Power Pool.

Description: 205(d) Rate Filing: Tariff Revisions to Adopt a Revised Transition to a Binding Program to be effective 1/27/2025.

Filed Date: 11/25/24.

Accession Number: 20241125-5207.

Comment Date: 5 p.m. ET 12/16/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 25, 2024.
Carlos D. Clay,
Acting Deputy Secretary.

[FR Doc. 2024-28160 Filed 11-29-24; 8:45 am]

BILLING CODE 6717-01-P